DEPARTMENT OF THE INTERIOR

National Park Service

National Park Service Benefits-Sharing Draft Environmental Impact Statement

AGENCY: National Park Service, Department of the Interior.

ACTION: This notice informs the public that the comment period for the National Park Service Benefits-Sharing Draft Environmental Impact Statement covering all units of the National Park System is extended.

SUMMARY: The National Park Service published a Notice of Availability on September 26, 2006, (71 FR 186) for the National Park Service Benefits-Sharing Draft Environmental Impact Statement. The public comment period was to expire December 15, 2006. This notice extends the public comment period until January 29, 2007.

DATES: Comments on the Draft Environmental Impact Statement will be accepted through January 29, 2007.

ADDRESSES: Information will be available for public review and comment on the Internet at http://parkplanning.nps.gov (Select “Washington Office” from the “Choose a park” pick list and then click on the link for “benefits-sharing”), in the office of the National Park Service Associate Director for Natural Resource Stewardship and Science, 1849 C Street, NW., Washington, DC, and in the office of the Superintendent, Yellowstone National Park, Wyoming.

FOR FURTHER INFORMATION CONTACT: Susan Mills, Benefits-Sharing EIS, Center for Resources, P.O. Box 168, Yellowstone National Park, Wyoming 82190, (307)344-2203, benefitseis@nps.gov.

SUPPLEMENTARY INFORMATION: If you wish to comment, you may submit your comments by any one of several methods. You may mail comments to Benefits-Sharing EIS Team, Center for Resources, P.O. Box 168, Yellowstone National Park, Wyoming 82190. You may also comment via the Internet at http://parkplanning.nps.gov. If you do not receive a confirmation from the system that we have received your Internet message, contact us directly at the Yellowstone Center for Resources 307-344-2203. Finally, you may hand-deliver comments to the Yellowstone Center for Resources in Yellowstone National Park, Wyoming. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: November 20, 2006.
Michael A. Soukup,
Associate Director, Natural Resource Stewardship and Science, National Park Service.

[FR Doc. E6-20854 Filed 12-7-06; 8:45 am]

BILLING CODE 4312-CT-P